DEPARTMENT OF ENERGY

Federal Energy Regulatory Commission

[Project No. 14154-001]

Notice of Application Accepted for Filing With The Commission, Intent To Waive Scoping, Soliciting Motions To Intervene and Protests, Ready for Environmental Analysis, Soliciting Comments, Terms and Conditions, Recommendations, and Prescriptions, and Establishing an Expedited Schedule for Processing; William Arkoosh

Take notice that the following hydroelectric application has been filed with the Commission and is available for public inspection.

a. Type of Application: Original Minor License.

b. Project No.: 14154-001.

c. Date filed: November 15, 2011.

d. Applicant: William Arkoosh.

e. Name of Project: Little Wood River Ranch II Project.

f. Location: On the Little Wood River, six miles west of the Town of Shoshone, Lincoln County, Idaho. The project would occupy approximately 0.5 acre of federal lands managed by the U.S. Bureau of Land Management.

g. Filed Pursuant to: Federal Power Act, 16 USC 791(a)-825(r).

h. Applicant Contact: William Arkoosh, 2005 Highway 26, Gooding, Idaho 83330. Phone: (208) 539-5443.

i. FERC Contact: Jennifer Harper, (202) 502-6136 or Jennifer.Harper@FERC.gov.

j. Deadline for filing motions to intervene and protests, requests for cooperating agency status, comments, terms and conditions, recommendations, and prescriptions: Due to the small size and particular location of this project, the close coordination with state and federal agencies during the preparation of the application, and the public and agency review of the project under the previous license issued for this site, the 60-day timeframe in 18 CFR 4.34(b) for filing comments, terms and conditions, recommendations, and prescriptions is shortened. Instead, comments, terms and conditions, recommendations, and prescriptions will be due 30 days from the issuance date of this notice. Further, the date for filing motions to intervene and protests will be due 30 days from the issuance date of this notice. All reply comments are due 45 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The Little Wood River Ranch II Project consists of: (1) A 220-foot-long, 12-foot-wide rock rubble diversion dam, impounding a 9.1-acre reservoir on the Little Wood River; (2) a 3,900-foot-long feeder canal; (3) a concrete intake structure having two parallel 5-foot-diameter, 120-foot-long steel penstocks; (4) a 60-foot-long, 20-foot-wide, 25-foot-high concrete and steel power house containing two hydraulic Francis turbines with a total installed capacity of 1,230 kilowatts; (5) a 1,600-foot-long tailrace canal; (6) a 2.2-mile-long, 12.5-kilovolt transmission line; (7) an access road; and (8) appurtenant facilities. The average annual generation is estimated to be 5,600 megawatt-hours.

m. Due to the applicant's close coordination with federal and state agencies during the preparation of the application, completed studies, agency comments, and discussion of issues under the previous license process for this site, we intend to waive scoping, shorten the notice filing period, and expedite the license process. Based on a review of the application, resource agency consultation letters, and comments filed to date, Commission staff intends to prepare a single environmental assessment (EA). Commission staff determined that the issues that need to be addressed in its EA have been adequately identified during the pre-filing period, which included a public meeting and site visit, and no new issues are likely to be identified through additional scoping. The EA will consider assessing the potential effects of project construction and operation on geology and soils, aquatic, terrestrial, threatened and endangered species, and cultural and historic resources.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

p. Procedural schedule: The application will be processed according to the following procedural schedule. Revisions to the schedule may be made as appropriate.

Milestone | Target date
Notice of the availability of the EA | July 2012

Dated: April 4, 2012.
Kimberly D. Bose,
Secretary.

[FR Doc. 2012-8644 Filed 4-10-12; 8:45 am]

BILLING CODE 6717-01-P